DEPARTMENT OF HOMELAND SECURITY

Coast Guard

33 CFR Parts 3, 100, and 165

[Docket Number USCG-2019-0943]

Coast Guard Sector Virgina; Sector Name Conforming Amendment

AGENCY: Coast Guard, DHS.

ACTION: Final rule.

SUMMARY: This rule makes non-substantive amendments to Coast Guard regulations in association with a change in the Coast Guard's internal organization. The amendment describes the name change of “Sector Hampton Roads Marine Inspection Zone and Captain of the Port Zone” to “Sector Virginia Marine Inspection Zone and Captain of the Port Zone.” This rule will have no substantive effect on the regulated public.

DATES: This rule is effective February 6, 2020.

ADDRESSES: To view documents mentioned in this preamble as being available in the docket, go to https://www.regulations.gov, type USCG-2019-0943 in the “SEARCH” box and click “SEARCH.” Click on Open Docket Folder on the line associated with this rule.

FOR FURTHER INFORMATION CONTACT: If you have questions on this rule, call or email Commander Eric Matthies, Sector Logistics Division Chief, U.S. Coast Guard; telephone 757-483-8515, email Eric.J.Matthies@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

Sector Hampton Roads leadership made the strategic decision to submit an Orgnization Modification Request to change the existing unit name from “Sector Hampton Roads Marine Insepction Zone and Captain of the Port Zone” (Sector Hampton Roads) to “Sector Virginia Marine Inspection Zone and Captain of the Port Zone” (Sector Virginia). The action was necessary to more accurately reflect the Sector's geographic operational responsibility and jurisdiction as well as to elimante confusion and bolster community relations. From a strategic communications and community relations perspective, keeping the name “Sector Hampton Roads” created a unique challenge when working and coordinating efforts with communities, the media, and government officials outside of the Hampton Roads region. The name Sector Hampton Roads created confusion with outlying communities such as those in the Upper Middle Peninsulas of Virginia as well as the Eastern Shore of Virginia. By renaming the unit to “Sector Virginia,” it more appropriately identifies the unit to our federal, state, and local government agency partners, who cohesively service the state of Virginia, with the exception of the Maryland-National Capital Region. Also, the name change to “Sector Virginia” enhances communications and formal Coast Guard name recoginition with our port partners who attend statewide meetings in support of the Area Maritime Security Committees, Area Committes and Harbor Safety Committees as well as coordinating incident response during natural disasters and National Special Security Events. The name change to “Sector Virginia” has no effect on the area of operation boundary lines or existing organizational structure.

The purpose of this rulemaking is to align the text of Coast Guard regulations, with a change in the Coast Guard's internal organization. Specifically, this rule amends 33 CFR 3.25-10, to reflect the changed sector name from “Sector Hampton Roads Marine Insepction Zone and Captain of the Port Zone” to “Sector Virginia Marine Inspection Zone and Captain of the Port Zone”, and makes corresponding changes to 33 CFR 100.501, 165.501, 165.503, 165.504, 165.506, 165.518, and 165.550.

We did not publish a notice of proposed rulemaking (NPRM) for this regulation. Under both 5 U.S.C. 553(b) (A) and (B), the Coast Guard finds that this rule is exempt from notice and comment rulemaking requirements because these changes involve rules of agency organization, and good cause exists for not publishing an NPRM because the changes made are all non-substantive. This rule consists only of organizational amendments. These changes will have no substantive effect on the public; therefore, it is unnecessary to publish an NPRM. Under 5 U.S.C. 553(d)(3), the Coast Guard finds that, for the same reasons, good cause exists for making this rule effective less than 30 days after publication in the Federal Register. The rule makes non-substantive amendments to Coast Guard regulations, in order to align with a change in the Coast Guard's internal organization. The amendment describes the name change from Sector Hampton Roads to Sector Virginia. This rule will have no substantive effect on the regulated public.

III. Legal Authority and Need for Rule

The Coast Guard is issuing this rule under authority in 14 U.S.C. 504(a)(2), as delegated, to establish, change the location of, maintain, and operate Coast Guard shore establishments. The rule is needed to reflect a change in the Coast Guard's internal organization.

IV. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This rule has not been designated a “significant regulatory action,” under Executive Order 12866. Accordingly, this rule has not been reviewed by the Office of Management and Budget (OMB), and pursuant to OMB guidance it is exempt from the requirements of Executive Order 13771.

This regulatory action determination is based on the finding that the name change will have no substantive effect on the public.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

For the reasons stated in section IV.A above, this rule will not have a significant economic impact on any member of the public, including “small entities.”

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please call or email the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule consists only of an organizational amendment. It is categorically excluded from further review under paragraph L55 in Table 3-1 of U.S. Coast Guard Environmental Planning Implementing Procedures.

G. Protest Activities

The Coast Guard respects the First Amendment rights of protesters. Protesters are asked to call or email the person listed in the FOR FURTHER INFORMATION CONTACT section to coordinate protest activities so that your message can be received without jeopardizing the safety or security of people, places or vessels.

List of Subjects

33 CFR Part 3

Organization and functions (Government agencies).

33 CFR Part 100

Marine safety, Navigation (Water), Reporting and recordkeeping requirements, Waterways.

33 CFR Part 165

Harbors, Marine safety, Navigation (water), Reporting and recordkeeping requirements, Security measures, Waterways.

For the reasons discussed in the preamble, the Coast Guard amends 33 CFR parts 3, 100, and 165 as follows:

PART 3—SAFETY COAST GUARD AREAS, DISTRICTS, SECTORS, MARINE INSPECTION ZONES, AND CAPTAIN OF THE PORT ZONES

1. The authority citation for part 3 continues to read as follows:

Authority: 14 U.S.C. 92 & 93; Pub. L. 107-296, 116 Stat. 2135; Department of Homeland Security Delegation No. 0170.1, para. 2(23).

§ 3.25-10 [Amended]

2. In § 3.25-10, remove the words “Hampton Roads” wherever they appear and add in their place the word “Virginia”.

PART 100—SAFETY OF LIFE ON NAVIGABLE WATERS

3. The authority for part 100 continues to read as follows:

Authority: 46 U.S.C. 70041; 33 CFR 1.05-1.

§ 100.501 [Amended]

4. In § 100.501, remove the words “Hampton Roads” wherever they appear and add in their place the word “Virginia”.

PART 165—REGULATED NAVIGATION AREAS AND LIMITED ACCESS AREAS

5. The authority citation for part 165 continues to read as follows:

Authority: 46 U.S.C. 70034, 70051; 33 CFR 1.05-1, 6.04-1, 6.04-6, and 160.5; Department of Homeland Security Delegation No. 0170.1.

§ 165.501 [Amended]

6. In § 165.501(b), remove the words “Hampton Roads” wherever they appear and add in their place the word “Virginia”.

§ 165.503 [Amended]

7. In § 165.503:

a. In paragraph (a) amend the definition of “Designated Representative” by removing the words “Hampton Roads,”; and

b. Amend paragraphs (b) and (c) by removing the words “Hampton Roads” and adding their place “Virginia.”

§ 165.504 [Amended]

8. In § 165.504(c)(1)(vii)(A), remove the words “Hampton Roads,”.

§ 165.506 [Amended]

9. In § 165.506, remove the words “Hampton Roads” wherever they appear and add in their place the word “Virginia”.

§ 165.518 [Amended]

10. In § 165.518(c)(7), remove the words “Hampton Roads” wherever they appear and add in their place the word “Virginia”.

§ 165.550 [Amended]

11. In § 165.550 (a)(3) and (d)(2)(iii), remove the words “Hampton Roads” wherever they appear and add in their place the word “Virginia”.

Dated: January 30, 2020.
K.M. Carroll,
Captain, U.S. Coast Guard, Sector Commander.

[FR Doc. 2020-02214 Filed 2-5-20; 8:45 am]

BILLING CODE 9110-04-P